DEPARTMENT OF ENERGY

[FE Docket No. PP-252]

Application for Presidential Permit; GenPower New York, L.L.C.

AGENCY: Office of Fossil Energy, DOE.

ACTION: Notice of application.

SUMMARY: GenPower New York, L.L.C. (GenPower) has applied for a Presidential permit to construct, operate, maintain and connect a ± 500,000-volt (± 500-kV) Direct Current (DC) submarine electric transmission cable across the U.S. border with Canada.

DATES: Comments, protests, or requests to intervene must be submitted on or before November 1, 2001.

ADDRESSES: Comments, protests, or requests to intervene should be addressed as follows: Office of Coal & Power Import and Export (FE-27), Office of Fossil Energy, U.S. Department of Energy, 1000 Independence Avenue, SW., Washington, DC 20585-0350.

FOR FURTHER INFORMATION CONTACT: Ellen Russell (Program Office) 202-586-9624 (or by electronic mail to: Ellen.Russell@hq.doe.gov) or Michael T. Skinker (Program Attorney) 202-586-6667.

SUPPLEMENTARY INFORMATION: The construction, operation, maintenance and connection of facilities at the international border of the United States for the transmission of electric energy between the United States and a foreign country is prohibited in the absence of a Presidential permit issued pursuant to Executive Order (EO) 10485, as amended by EO 12038.

On September 19, 2001, GenPower filed an application with the Office of Fossil Energy (FE) of the Department of Energy (DOE) for a Presidential permit. GenPower proposes to install a high voltage direct current (HVDC) submarine cable extending from a proposed 820-megawatt combined cycle, natural gas powerplant located in Goldboro, Guysborough County, Nova Scotia, Canada, to New York City, New York, a distance of approximately 800 to 900 miles (1,300 to 1,450 kilometers (km)). GenPower's proposed terminus in New York City is the Consolidated Edison Company's (ConEd) West 49th Street substation. GenPower proposes, based on technical and geological limitations, to bury the cable to a depth of approximately 3 feet (1 meter).

Since the restructuring of the electric power industry began, resulting in the introduction of different types of competitive entities into the marketplace, DOE has consistently expressed its policy that cross-border trade in electric energy should be subject to the same principles of comparable open access and non-discrimination that apply to transmission in interstate commerce. DOE has stated that policy in export authorizations granted to entities requesting authority to export over international transmission facilities. Specifically, DOE expects transmitting utilities owning border facilities constructed pursuant to Presidential permits to provide access across the border in accordance with the principles of comparable open access and non-discrimination contained in the FPA and articulated in Federal Energy Regulatory Commission Order No. 888, as amended (Promoting Wholesale Competition Through Open Access Non-Discriminatory Transmission Services by Public Utilities). In furtherance of this policy, DOE intends to condition any Presidential permit issued in this proceeding on compliance with these open access principles.

Procedural Matters: Any person desiring to become a party to this proceeding or to be heard by filing comments or protests to this application should file a petition to intervene, comment or protest at the address provided above in accordance with § 385.211 or § 385.214 of the FERC's rules of practice and procedures (18 CFR 385.211, 385.214). Fifteen copies of each petition and protest should be filed with the DOE on or before the date listed above.

Additional copies of such petitions to intervene or protests also should be filed directly with: John O'Leary, GenPower New York, L.L.C., 1040 Great Plain Avenue, Needham, MA 02494.

Before a Presidential permit may be issued or amended, the DOE must determine that the proposed action will not adversely impact on the reliability of the U.S. electric power supply system. In addition, DOE must consider the environmental impacts of the proposed action (i.e., granting the Presidential permit, with any conditions and limitations, or denying the permit) pursuant to NEPA. DOE also must obtain the concurrence of the Secretary of State and the Secretary of Defense before taking final action on a Presidential permit application.

The NEPA compliance process is a cooperative, non-adversarial process involving members of the public, state governments and the Federal government. The process affords all persons interested in or potentially affected by the environmental consequences of a proposed action an opportunity to present their views, which will be considered in the preparation of the environmental documentation for the proposed action. Intervening and becoming a party to this proceeding will not create any special status for the petitioner with regard to the NEPA process. Notice of upcoming NEPA activities and information on how the public can participate in those activities will appear in the Federal Register.

Copies of this application will be made available, upon request, for public inspection and copying at the address provided above. In addition, the application may be reviewed or downloaded from the Fossil Energy Home Page at: http://www.fe.doe.gov. Upon reaching the Fossil Energy Home page, select “Electricity Regulation” and then “Pending Proceedings” from the options menu.

Issued in Washington, DC, on September 26, 2001.
Anthony J. Como,
Deputy Director, Electric Power Regulation, Office of Coal & Power Import/Export, Office of Coal & Power Systems, Office of Fossil Energy.

[FR Doc. 01-24606 Filed 10-1-01; 8:45 am]

BILLING CODE 6450-01-P